DEPARTMENT OF HEALTH AND HUMAN SERVICES

Notice of Availability of Request for Information (RFI) Regarding the Potential Roles for HHS in Developing a Dynamic Environment To Encourage the Innovation and Diffusion of Medical Technologies That Enhance Health System Value

AGENCY: Office of the Assistant Secretary for Planning and Evaluation, Department of Health and Human Services.

ACTION: Request for information.

SUMMARY: The Department of Health and Human Services (HHS) is soliciting ideas and information relating to ways in which HHS could continue to improve its use of resources and authorities in encouraging the development and use of new medical technologies, consistent with the goals of (a) maintaining and improving the quality of care, (b) controlling overall healthcare costs, and (c) using timely and practical administrative procedures. This Request for Information is now available on the HHS Web site at http://aspe.hhs.gov/sp/medtechinnovation/rfi.

DATES: Responses should be submitted to the U.S. Department of Health and Human Services on or before 5 p.m., EDT, April 16, 2009.

ADDRESSES: Instructions for Submitting Comments: Electronic responses are preferred and should be addressed to medtechinnovation@hhs.gov. Written responses should be addressed to the U.S. Department of Health and Human Services, Room 434E, 200 Independence Ave, SW., Washington, DC 20201. Attention: Medical Technology Innovation RFI. A copy of this RFI is available on the Web site of the Assistant Secretary for Planning and Evaluation at http://aspe.hhs.gov/sp/medtechinnovation/rfi.

The submission of comments in response to this notice should not exceed 25 pages, not including appendices and supplemental documents. Any information you submit will be made public. Consequently, please do not send any proprietary, commercial, financial, business confidential, trade secret, or personal information that you do not wish to be made public.

Public Access: Responses to this RFI will be available to the public in the Policy Information Center, 200 Independence Avenue, SW., Washington, DC, 20201. Please call (202) 690-6445 between 9 a.m. and 5 p.m. to arrange access.

FOR FURTHER INFORMATION CONTACT: Medical Technology Innovation Desk, Office of the Assistant Secretary for Planning and Evaluation, (202) 690-7858.

Dated: January 12, 2009.
Mary M. McGeein,
Principal Deputy Assistant Secretary for Planning and Evaluation.

[FR Doc. E9-807 Filed 1-14-09; 8:45 am]

BILLING CODE 4151-05-P